DEPARTMENT OF THE INTERIOR

Office of Surface Mining Reclamation and Enforcement

Information Quality Guidelines Pursuant to Section 515 of the Treasury and General Government Appropriations Act for Fiscal Year 2002

AGENCY: Office of Surface Mining Reclamation and Enforcement, Interior.

ACTION: Notice of availability of guidelines.

SUMMARY: These final guidelines implement guidelines published by the Office of Management and Budget (OMB) in the Federal Register which directed Federal agencies to issue and implement guidelines to ensure and maximize the quality, objectivity, utility, and integrity of government information disseminated to the public. We, the Office of Surface Mining Reclamation and Enforcement (OSM), are issuing these final Information Quality Guidelines in order to comply with the OMB requirement.

FOR FURTHER INFORMATION CONTACT: Division of Administration, Office of Surface Mining, 1951 Constitution Ave., NW., Washington, DC 20240. Telephone (202) 208-2961 or by e-mail to infoquality@osmre.gov.

SUPPLEMENTARY INFORMATION:

I. Background

A notice published by Office of Management and Budget (OMB) in the Federal Register, dated February 22, 2002 (67 FR 8452), directed Federal agencies to issue and implement guidelines to ensure and maximize the quality, objectivity, utility, and integrity of Government information disseminated to the public. We are issuing these final Information Quality Guidelines in order to comply with OMB and Department of the Interior direction. Draft Information Quality Guidelines were published in the Federal Register, on July 22, 2002 (67 FR 47829). One comment was received from a public regulatory review group during the public comment period and was considered, and where applicable or appropriate, was incorporated into our final guidelines.

OSM, which includes Headquarters, three regional offices, and ten field offices, disseminates a wide variety of information to the public regarding the nation's surface coal mining and reclamation activities on Federal, tribal or other lands within states which may include state or privately-owned lands. The disseminated information includes organizational and management information, program and service products, research and statistical reports, policy and regulatory information, and general reference material. We will evaluate and identify, prior to dissemination, the types of information subject to these guidelines.

II. Information Quality Standards

OSM will make use of OMB's Paperwork Reduction Act (PRA) (44 U.S.C. chapter 35) clearance process to help improve the quality of information that OSM collects and disseminates to the public. All such collections of information will demonstrate in their PRA clearance submissions to OMB that the information will be collected, maintained, and used in a way consistent with the DOI and OMB Quality Information Guidelines. As a matter of good and effective agency information resource management, we will develop a process for reviewing the quality (including utility and integrity) of collected information before it is disseminated to the public.

Information we disseminate to the public is normally subject to one or more levels of internal staff, or supervisory review for quality before actual dissemination.

The number of levels of internal quality review applied in a particular case depends on the nature, scope, and purpose of the information to be disseminated. For example, routine reports that may be prepared by staff about the agency's activities or operations may be subject to one or two levels of staff or supervisory review for basic accuracy and completeness before such reports are released to the general public. Additional levels of internal review, supplementation, clarification, or approval by our management may be appropriate, however, to the extent that a report may be intended as the basis for more complicated budgeting decisions or legislative reporting (e.g. to satisfy a need for greater statistical detail or explanation).

We have adopted the information quality definitions published by OMB and the Department of Interior. they are set forth in IV. below.

III. Information Quality Procedures

While we may vary in our implementation approaches, the basic guidance published by OMB on February 22, 2002, (67 FR 8452) and adopted by the Department of the Interior in the Federal Register, dated May 24, 2002 (67 FR 36642) is included in our policy and will apply to our dissemination of information/

The OMB guidelines require that after October 1, 2002, an affected person may seek and obtain, where appropriate, correction of disseminated information that does not comply with the OMB or Department of the Interior guidelines. An affected person is an individual or an entity that may use, benefit from, or be harmed by the dissemination of information at issue. We have established a process for tracking and responding to complaints in accordance with this direction. As part of this process, our website (http://www.osmre.gov) is being provided as a means for an affected person to challenge the quality of disseminated information. Written comments may be addressed to the Division of Administration, 1951 Constitution Ave., NW., Washington DC 20240 or by email to infoquality@osmre.gov.

A. How To Challenge Information Quality

If you want to challenge the quality of our disseminated information, please provide the following information: The name and address of the person filing the compliant; specific reference to the information being challenged; a statement of why you believe the information fails to satisfy the standards in the OSM, DOI or OMB guidelines; and how you are affected by the challenged information. You may include suggestions for correcting the challenged information, but it is not mandatory.

B. How We Will Process Complaints

Once we receive a complaint, we will have 10 business days to notify you of receipt. We will also notify the program area that disseminated the challenged information of the receipt of the compliant. We will have 60 calendar days from receipt to evaluate whether the compliant is accurate based on an analysis of all information available to the appropriate program or office. If, within the 60-calendar-day period, we determine that the compliant is without merit, we will notify you. If, within the 60-calendar-day period, we determine that the compliant has merit, we will notify you and the appropriate program or office. We will take reasonable steps to withdraw the information from the public domain and from any decision-making process in which it is being used. If we decide to correct the challenged information, we will notify you of our intent and make the correction. We will determine the schedule and procedure for correcting challenged information, but will not disseminate the challenged information in any form until we make the appropriate corrections. We will provide you with a copy of the corrected information once completed.

C. How To Appeal an Initial Decision or Lack of Action

If you do not receive the notices within the timeframe described above, or if you wish to appeal a determination of merit, or wish to appeal the proposed correction of information, you may appeal to the Director of OSM or a delegated official. The Director may intervene on behalf of the complainant to maintain the compliant-resolution process. If the Director determines that an appeal of a determination has merit or the proposed correction of information has merit, our appropriate program office will be notified. We will withdraw the challenged information from the public domain, to the extent practical, and will not use the information in any of our decision-making process until we correct it.

D. How We Handle Multiple Complaints

If we receive a second complaint before we issue the 60-calendar-day notice for an overlapping complaint under review, we will consider it at the same time. We will notify the second complainant within 10 business days that an analysis is in progress and provide its status. We will combine the earlier and later complaints and issue a combined 60-calendar-day notice.

If we receive the second complaint on the same subject after we have issued a 60-calendar-day notice, we will conduct a new and separate review.

E. Commenting on Draft and Final Documents

We conduct many activities by soliciting public review and comment on proposed documents before their issuance in final form. These activities include rulemakings and analyses conducted under the Surface Mining Control and Reclamation Act of 1977 (SMCRA), the National Environmental Policy Act (NEPA) and other authorities. For the purposes of the Information Quality Guidelines covered by this notice, we will generally treat requests we receive for corrections of information in draft documents as comments on the draft document. We will respond to these comments in the final document.

In the case of rulemakings and other public comment procedures, where we disseminate a study, analysis, or other information before the final agency action of information product, we will consider a request for correction before the final action or information product if we have determined that an earlier response would not unduly delay issuing the final action or information, and you have shown a reasonable likelihood of suffering actual harm if we do not resolve the complaint before the final action or information product dissemination.

When we receive requests for corrections of information in a final document, we will first determine whether the request pertains to an issue discussed in the draft document where the requester could have commented. If we determine that the requester had the opportunity to comment on the issue at the draft stage and failed to do so, we may consider the request to have no merit.

If information that did not appear in the draft document is the subject of a request for correction, we will consider that request. If we determine that the information does not comply with OMB or our guidelines and that the non-compliance presents significant new circumstances or information relevant to environmental concerns and bearing on the proposed action or its impacts, OSM will use existing mechanisms to remedy the situation, such as re-proposed a rule or supplementing public analysis.

F. Annual Report on Complaints

We will submit a report for each fiscal year to the Department of the Interior's Office of the Chief Information Officer (OCIO) not later than November 30 of each year. The report will identify the number, nature, and resolution of complaints received. The OCIO staff will consolidate all bureau reports into a Departmental annual report and submit to the Director of OMB no later than January 1, annually.

IV. Definitions

1. “Quality” is an encompassing term that includes utility, objectivity, and integrity. Therefore, the guidelines sometimes refer to these four statutory terms collectively as “quality.”

2. “Utility” refers to the usefulness of the information to its intended users, including the public. In assessing the usefulness of information that we disseminate to the public, we need to reconsider the uses of the information not only from our perspective, but also from the perspective of the public. As a result, when transparency of information is relevant for assessing the information's usefulness from the public's perspective, we will take care to address that transparency in our review of the information.

3. “Objectivity” involves two distinct elements: presentations and substance.

4. “Objectivity” includes whether we disseminate information in an accurate, clear, complete, and unbiased manner. This involves whether the information is presented within a proper context. Sometimes in disseminating certain types of information to the public, other information must also be disseminated in order to ensure an accurate, clear, complete, and unbiased presentation. Also, we will identify the sources of the disseminated information (to the extent possible, consistent with confidentiality protections) and include it in a specific financial or statistical context so that the pubic can assess whether there may be some reason to question the objectively of the sources. Where appropriate, we will identify transparent documentation and error sources affecting date quality.

(b) In addition, “objectively” involves a focus on ensuring accurate, reliable, and unbiased information. In a scientific, financial, or statistical context, we will analyze the original and supporting data and develop our results using sound statistical and research methods.

(1) If data and analytical results have been subjected to formal, independent, external peer review, we will generally presume that the information is of acceptable objectively. however, a complainant may rebut this presumption based on a persuasive showing in a particular instance. If we use peer review to help satisfy the objectively standard, the review process employed shall meet the general criteria for competent and credible peer review recommended by OMB's Office of Information and Regulatory Affairs (IORA) to the President's Management Council (9/20/01) (http://www.whitehouse.gov/omb/inforeg/infopoltech.html#dq). OIRA recommends that: (i) Peer reviewers be selected primarily on the basis of necessary technical expertise, (ii) peer reviewers be expected to disclose to agencies prior technical/policy positions they may have taken on the issues at hand, (iii) peer reviewers be expected to disclose to agencies their sources of personal and institutional funding (private or public sector), and (iv) peer reviews be conducted in an open and rigorous manner.

(2) Because we are responsible for disseminating influential scientific, financial, and statistical information, we will include a high degree of transparency about data and methods to facilitate the reproducibility (the ability to reproduce the results) of the information by qualified third parties. To be considered “influential,” as that term is defined in item 9 below, information must constitute a principal basis for substantive policy positions adopted by OSM. It should also be noted that the “influential” definition applies to “information” itself, not to decisions that the information may support. Even if a decision or action by OSM is itself very important, a particular piece of information supporting it may or may not be “influential” as defined by these guidelines.

Original and supporting data will be subject to commonly accepted scientific, financial, or statistical standards. We will not require that all disseminated data be subjected to a reproducibility requirement. We may identify, in consultation with the relevant scientific and technical communities, those particular types of data that can practically be subjected to a reproducibility requirement, given ethical, feasibility, or confidentiality constraints. It is understood that reproducibility of data is an indication of transparency about research design and methods and thus a replication exercise (i.e., a new experiment, test of sample) that will not be required before each release of information.

With regard to analytical results, we will generally require sufficient transparency about data and research methods that a qualified member of the public could undertake an independent re-analysis. These transparency standards apply to our analysis of data from a single study as well as the analyses that combine information from multiple studies.

Making the data and methods publicly available will assist us in determining whether analytical results are reproducible. However, the objectivity standard does not override other compelling interests such as privacy, trade secrets, intellectual property, and other confidentiality protections.

In situations where public access to data and methods will not occur due to other compelling interests, we will apply especially rigorous checks to analytical results and document what checks were undertaken. We will, however, disclose the specific data sources used and the specific quantitative methods and assumptions we employed. We will define the type of checks, and the level of detail for documentation given the nature and complexity of the issues. We will use or adapt the quality principles applied by Congress to risk information used and disseminated under the Safe Drinking Water Amendments of 1996 (42 U.S.C. 300g-1(b)(3)(A) and (B)).

Since we are responsible for dissemination of some types of health and public safety information, we will interpret the reproducibility and peer-review standards in a manner appropriate to assuring the timely flow of vital information from us to appropriate government agencies and the public. We may temporarily waive information from appropriate government agencies and the public. We may also temporarily waive information quality standards under urgent situations (e.g., imminent threats to public health, the environment, the national economy, or homeland security) in accordance with the latitude specified in the Department guidelines.

4. “Integrity” refers to the security of information—protection of the information from unauthorized access or revision, to ensure that the information is not compromised through corruption or falsification.

5. “Information” means any communication or representation of knowledge such as facts or data, in any medium or form, including textual, numerical, graphic, cartographic, narrative, or audiovisual forms. This definition includes information that an agency disseminates from a web page, but does not include the provision of hyperlinks to information that others disseminate. This definition does not include opinions, where our presentation makes it clear that what is being offered is someone's opinion rather than fact or our views.

6. “Government information” means information created, collected, processed, disseminated, or disposed of by or for the Federal Government.

7. “Information dissemination product” means any books, paper, map, machine-readable material, audiovisual production, or other documentary material, regardless of physical form or characteristic, an agency disseminates to the public. This definition includes any electronic document, CD-ROM, or Web Page.

8. “Dissemination” means agency initiated or sponsored distribution of information to the public (see 5 CFR 1320.3(d) for definition of “conduct or sponsor”). Dissemination does not include distribution limited to: Government employees or agency contractors or grantees; intra or inter-agency use or sharing of government information; and response to requests for agency records under the Freedom of Information Act, the Privacy Act, the Federal Advisory Committee Act or other similar law. This definition also does not include distribution limited to: Correspondence with individuals or persons, press releases, archival records, public filings, subpoenas or adjudicative processes.

9. “Influential,” when used in the phrase “influential scientific, financial, or statistical information,” means that we can reasonably determine that dissemination of the information will have or does have a clear and substantial impact on important private sector decisions. We are authorized to define “influential” in ways appropriate for us, given the nature and multiplicity of issues for which we are responsible.

10. “Reproducible” means that the information is capable of being substantially reproduced, subject to an acceptable degree of imprecision.

(a) For information judged to have more important impacts, the degree of imprecision that is tolerated is reduced.

(b) For information judged to have less important impacts, the degree of imprecision that is tolerated is increased.

(c) If we apply the reproducibility test to specific types of original supporting data as published by the DOI and OMB for Quality Information Guidelines, those guidelines will provide the relevant definitions of reproducibility (e.g., standards for replication of laboratory data).

(d) With respect to analytical results, “capable of being substantially reproduced” means that independent analysis of the original or supporting data using identical methods would demonstrate whether similar analytical results, subject to an acceptable degree of imprecision or error, could be generated.

V. Legal Effect

These guidelines are intended only to improve the internal management of the Office of Surface Mining Reclamation and Enforcement relating to information quality. Nothing in these guidelines is intended to create any right or benefit, substantive or procedural, enforceable at law or equity by a party against the United States, its agencies, its offices, or any other person. These guidelines do not provide any right to judicial review.

Dated: October 4, 2002.
Jeffrey D. Jarrett,
Director.

[FR Doc. 02-28802 Filed 11-8-02; 8:45 am]

BILLING CODE 4310-05-M